DEPARTMENT OF LABOR

Employment and Training Administration

[TA-W-55,432]

Down River LLC, White City, OR; Notice of Termination of Investigation

Pursuant to Section 221 of the Trade Act of 1974, an investigation was initiated on August 12, 2004 in response to a petition filed by a company official on behalf of workers at Down River LLC, White City, Oregon.

The petitioner has requested that the petition be withdrawn. Consequently, the investigation has been terminated.

Signed in Washington, DC, this 1st day of September, 2004.
Elliott S. Kushner,
Certifying Officer, Division of Trade Adjustment Assistance.

[FR Doc. E4-2310 Filed 9-21-04; 8:45 am]

BILLING CODE 4510-30-P